DEPARTMENT OF TRANSPORTATION

Research and Innovative Technology Administration

Advisory Council on Transportation Statistics

AGENCY: Research and Innovative Technology Administration (RITA), Bureau of Transportation Statistics (BTS), DOT.

ACTION: Notice.

SUMMARY: This notice announces, pursuant to section 10(A)(2) of the Federal Advisory Committee Act (FACA) (Public Law 72-363; 5 U.S.C. app. 2), a meeting of the BTS Advisory Council on Transportation Statistics (ACTS). The meeting will be held Thursday, July 31, 2008, from 10 a.m. to 4 p.m. The meeting will take place at the U.S. Department of Transportation, 1200 New Jersey Ave., SE., Washington DC, on the 1st Floor, West Building, in the Oklahoma City Room.

The ACTS, established under section 6007 of Public Law 102-240, Intermodal Surface Transportation Efficiency Act of 1991, December 18, 1991, and chartered on June 19, 1995, was created to advise the Director of BTS on transportation statistics and analyses, including whether or not the statistics and analysis disseminated by the BTS are of high quality and are based upon the best available objective information.

The following is a summary of the meeting's agenda: (1) Introductions and Opening Remarks; (2) Program Update (a) Safety Data, (b) System Performance Data; (3) Challenges in Collecting and Disseminating National Transportation Statistics; (4) Identifying Transportation Data Needs; (5) General Discussion; and (6) Public Comments and Closing Remarks. Since access to the DOT building is controlled, all persons who plan to attend the meeting must notify Mrs. Tonya Tinsley-Grisham, the Committee Management Officer at (202) 366-6268 prior to July 31, 2008. Individuals attending the meeting must report to the Lobby of the West Building for admission to the building. Attendance is open to the public, but limited space is available. With the approval of the Chair, members of the public may present oral statements at the meeting. Non-committee members wishing to present oral statements or obtain information should also contact Mrs. Tinsley-Grisham.

Questions about the agenda or written comments may be submitted by U.S. Mail to: U.S. Department of Transportation, BTS, Attention: Robert A. Monniere, Room E35-330, 1200 New Jersey Ave., SE., Washington, DC 20590 or faxed to (202) 366-3640. BTS requests that written comments be submitted prior to the meeting.

Persons with a disability requiring special services, such as an interpreter for the hearing impaired, should contact Mrs. Tinsley-Grisham at (202) 366-6268 at least seven calendar days prior to the meeting. Notice of this meeting is provided in accordance with the FACA and the General Service Administration regulations (41 CFR part 102-3) covering management of Federal advisory committees.

Issued in Washington, DC, on the 10th day of June, 2008.
Steven D. Dillingham,
Director, Bureau of Transportation Statistics.

[FR Doc. E8-13445 Filed 6-13-08; 8:45 am]

BILLING CODE 4910-08-P